DEPARTMENT OF COMMERCE

National Oceanic and Atmospheric Administration

Contracting Policy for Mapping and Charting Services

AGENCY: National Ocean Service, National Oceanic and Atmospheric Administration (NOAA), Department of Commerce.

ACTION: Notice and request for comment.

SUMMARY: The NOAA National Ocean Service (NOS) established a contracting policy for mapping and charting services in 1996 that the NOAA Hydrographic and Shoreline Mapping Programs have followed since that time. NOAA seeks public comment on this policy in accordance with the FY 2005 Consolidated Appropriations Act request to work with the private mapping community to develop a strategy for expanding contracting with private entities to minimize duplication and take maximum advantage of private sector capabilities in fulfillment of NOAA's mapping and charting responsibilities. Comments on the contracting policy and strategies to expand contracting will be factored into the NOAA Hydrographic Services Review Panel (http://nauticalcharts.noaa.gov/ocs/hsrp/hsrp.htm) Federal Advisory Committee's (HSRP FAC) recommendations to NOAA on the same issues. NOAA will consider both HSRP FAC recommendations and comments from the public in its update of the current contracting policy. NOAA will publish a draft revised policy and seek a second comment period before publishing the final contracting policy by March 2006.

DATES: Comments must be submitted within 60 days of the date of this notice.

ADDRESSES: Written comments should be submitted to Ashley Chappell, Office of Coast Survey, National Ocean Service, NOAA (N/CS), 1315 East West Highway, Station 6113, Silver Spring, MD 20910. Written comments may be faxed to (301) 713-4019, Attention: Ashley Chappell. Comments by e-mail should be submitted to ashley.chappell@noaa.gov.

FOR FURTHER INFORMATION CONTACT: Ashley Chappell, Office of Coast Survey, National Ocean Service, NOAA (N/CS), 1315 East West Highway, Station 6113, Silver Spring, Maryland 20910; Telephone: (301) 713-2770 ext. 148.

SUPPLEMENTARY INFORMATION: The following documentation is the current contracting policy for surveying and mapping within the National Oceanic and Atmospheric Administration (NOAA), National Ocean Service (NOS): National Ocean Service, Contracting Policy for Surveying and Mapping Services, June 4, 1996.

Background

A National Ocean Service (NOS) mission, as authorized by the Coast and Geodetic Survey Act of 1947 (33 U.S.C. 883a-i)1 is to provide nautical and aeronautical charts and other information products that support safe navigation for marine and air commerce, and to establish and maintain a high precision national coordinate system to provide basic reference data products for engineering and scientific purposes in support of commerce and industry.

This mission encompasses those activities associated with the field collection of surveying and mapping data, the analysis and compilation of the data, and the dissemination of the data in useful products for the full public benefit. For the purposes of this policy, the term “surveying and mapping” is defined as including, but not limited to, the following activities; geodetic control, hydrography, photogrammetry, topography, remote sensing, geophysical (gravity, seismological, geomagnetic) measurements, tide and current observations, and specialized data compilation processes.

The Coast and Geodetic Survey Act also authorizes NOS to utilize state-of-the-art technology to improve the efficiency, as well as the scientific and engineering knowledge, of surveying and mapping activities.

NOS recognizes that qualified commercial sources can provide competent, professional, cost-effective surveying and mapping services to NOS in support of the above mission. In general, it is the intent of NOS to contract for mapping and surveying services when qualified commercial sources exist, and when such contracts are the most cost effective method of conducting these functions. This policy statement documents the framework and conditions under which contracting for surveying and mapping services will be employed to ensure an open, consistent, approach. To support this policy, NOS will maintain a dialogue with professional and business organizations and constituent groups.

Policy

Private Sector Role

It is NOS policy to procure surveying and mapping services from qualified commercial sources in accordance with Federal acquisition regulations and other applicable laws when such procurement is the most cost effective source, unless (l) A product or service is inherently governmental in nature; (2) there is no commercial source capable of providing a needed product or service to NOS at the required standard of performance, and at a price equal to or less than existing government services; (3) Government production, manufacture, or provision of a product or service is necessary for national defense; or, (4) the procured services cannot reasonably be quality controlled to ensure safety of navigation in the national airspace or coastal waters.

NOS surveying and mapping activities considered inherently governmental in nature include services necessary to: (l) Monitor the quality of NOS products; (2) promulgate and promote national technical standards and specifications; (3) conduct basic research and development and ensure the rapid transfer to the private sector of the technology derived therefrom; and (4) maintain the Federal geodetic and navigational data bases. To carry out the above activities, and to adequately monitor contracted services, NOS will maintain a core capability of field and office expertise.

NOS decisions regarding contracting will include consideration of factors such as (l) Sufficiency of resources appropriated to support national programs, (2) Federal laws, regulations, policies, and procedures governing contracting, and utilization of the private sector for commercial activities, (3) Federal laws, regulations, and collective bargaining agreements that ensure fair and equitable treatment for Federal employees, (4) availability of critical in-house technical and managerial capability needed to use commercial sources effectively, (5) Federal policies regarding the liability of independent contractors for their acts or inactions, and (6) Federal requirements to regulate and manage the national airspace and coastal waters.

Contracting Basis

In general, it is NOS policy to award contracts for surveying and mapping services in accordance with Title IX of the Federal Property and Administrative Services Act of 1949 (40 U.S.C. 541 et seq.) commonly known as the “Brooks Act”. NOS may, however, elect to employ other contracting methods in accordance with federal acquisition regulations and other applicable laws when conditions determine that alternative contracting methods best serve the Government's interest.

The Brooks Act enables the Government to contract for surveying and mapping services on the basis of demonstrated competence and qualifications for the type of professional services required, and at fair and reasonable prices. NOS has determined that the Brooks Act is the appropriate contract basis for surveying and mapping services because the professional nature of the services to be procured require that potential contractors have specialized technical expertise. Surveying and mapping services are of a highly technical nature, and it is critical that all activities, from collection through compilation be performed to high standards of accuracy and quality control to meet the NOS mission of accurate, reliable products. By employing the Brooks Act, NOS is able to utilize a selection process that places priority on potential contractors' qualifications and expertise.

To view the Brooks Act, Pub. L. 92-582 or the Hydrographic Services Improvement Act (which established the HSRP FAC), visit http://nauticalcharts.noaa.gov/ocs/hsrp/archive/library.htm.

Dated: April 28, 2005.
Peter Gibson,
Acting Deputy Director, Management and Budget.

[FR Doc. 05-8816 Filed 5-2-05; 8:45 am]

BILLING CODE 3510-ME-P